DEPARTMENT OF VETERANS AFFAIRS

Advisory Committee on Women Veterans, Notice of Meeting

The Department of Veterans Affairs (VA) gives notice under the Federal Advisory Committee Act, 5 U.S.C. app 2, that the Advisory Committee on Women Veterans will conduct a virtual meeting on December 14-16, 2021. The meeting will begin at 10:00 a.m. Eastern Standard Time (EST) and end 1:00 p.m. EST each day.

Date | Time | Location
December 14, 2021 | 10:00 a.m.-1:00 p.m. EST | See WebEx link and call-in information below.
December 15, 2021 | 10:00 a.m.-1:00 p.m. EST | See WebEx link and call-in information below.
December 16, 2021 | 10:00 a.m.-1:00 p.m. EST | See WebEx link and call-in information below.

The meeting sessions are open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include updates from VA's Administrations and Staff Offices, updates on report recommendations, as well as briefings on other issues impacting women Veterans.

No time will be allocated at this meeting for receiving oral presentations from the public. Interested parties should provide written comments for review by the Committee to Ms. Shannon L. Middleton at 00W@mail.va.gov no later than December 6, 2021. Any member of the public who wishes to participate in the virtual meeting may use the following WebEx link: https://veteransaffairs.webex.com/veteransaffairs/j.php?MTID=m8545cf5df8c7b3b576baa1032fe90035. To join by phone: 1-833-558-0712 (toll free); mobile device: 1-404-397-1596, meeting number/access code: 2763 047 1516.

Dated: November 10, 2021.
Jelessa M. Burney,
Federal Advisory Committee Management Officer.

[FR Doc. 2021-24972 Filed 11-15-21; 8:45 am]

BILLING CODE P